DEPARTMENT OF DEFENSE

Office of the Secretary

[Docket ID DoD-2014-OS-0139]

Privacy Act of 1974; System of Records

AGENCY: Defense Finance and Accounting Service, DoD.

ACTION: Notice to delete two Systems of Records.

SUMMARY: The Defense Finance and Accounting Service is deleting two systems of records notices in its existing inventory of record systems subject to the Privacy Act of 1974, as amended. The system notices are entitled T7290, Nonappropriated Fund Accounts Receivable System and T7330b, Defense Finance & Accounting Service Transaction Interface Module (DTIM).

DATES: Comments will be accepted on or before October 27, 2014. This proposed action will be effective the date following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, (317) 510-4591.

SUPPLEMENTARY INFORMATION: The Defense Finance and Accounting Service systems of records notices subject to the Privacy Act of 1974 (5 U.S.C. 552a), as amended, have been published in the Federal Register and are available from the address in FOR FURTHER INFORMATION CONTACT or from the Defense Privacy and Civil Liberties Office Web site at http://dpclo.defense.gov/.

The proposed deletions are not within the purview of subsection (r) of the Privacy Act of 1974 (5 U.S.C. 552a), as amended, which requires the submission of a new or altered system report.

Dated: September 22, 2014.
Aaron Siegel,
Alternate OSD Federal Register Liaison Officer, Department of Defense.

Deletion

T7290

System name:

Nonappropriated Fund Accounts Receivable System (September 19, 2012, 77 FR 58106)

Reason:

This system has been retired; all data and paper records have been destroyed.

Therefore, T7290, Nonappropriated Fund Accounts Receivable System can be deleted.

Deletion

T7330b

System name:

Defense Finance & Accounting Service Transaction Interface Module (DTIM) (May 28, 2013, 78 FR 31905)

Reason:

This is a duplicate system of records; active records are covered by T7205, General Accounting and Finance System, Report Database for Financial Statements (December 30, 2013, 78 FR 79412).

Therefore, T7330b, Defense Finance & Accounting Service Transaction Interface Module (DTIM) can be deleted.

[FR Doc. 2014-22896 Filed 9-25-14; 8:45 am]

BILLING CODE 5001-06-P